DEPARTMENT OF THE INTERIOR

Bureau of Land Management

[LLCO-923000.L1440000.ET0000; COC-25845]

Notice of Proposed Withdrawal and Opportunity for Public Meeting for the McPhee Dam and Reservoir, Dolores Project; Colorado

AGENCY: Bureau of Land Management, Interior.

ACTION: Notice of proposed withdrawal.

SUMMARY: The Secretary of the Interior, as requested by the Bureau of Reclamation (BOR), proposes to withdraw 953.06 acres of public lands from settlement, sale, location, or entry, under all of the general land laws, including the mining laws, and 309.56 acres of National Forest System lands from location and entry under the mining laws, and reserve them for use by the BOR in connection with the McPhee Dam and Reservoir, for a period of 100 years. This notice advises the public of an opportunity to comment on the withdrawal and to request a public meeting.

DATES: Comments and requests for a public meeting must be received by November 1, 2021.

ADDRESSES: All comments and meeting requests should be sent to the Bureau of Land Management (BLM) Colorado State Director, 2850 Youngfield Street, Lakewood, CO 80215.

FOR FURTHER INFORMATION CONTACT: John Beck, Chief, Branch of Lands and Realty, BLM Colorado State Office, telephone: 303-239-3882, email: jbeck@blm.gov. Persons who use a telecommunications device for the deaf (TDD) may call the Federal Relay Service (FRS) at 1-800-877-8339 to contact Mr. Beck during normal business hours. The FRS is available 24 hours a day, 7 days a week, to leave a message or question. You will receive a reply during normal business hours.

SUPPLEMENTARY INFORMATION: The McPhee Dam and Reservoir was previously withdrawn under Public Land Order (PLO) No. 5811 and extended by PLO No. 7473, which expired on January 21, 2021. The purpose of this withdrawal is to reserve the lands for and the protection for the McPhee Dam and Reservoir, Dolores Project, and capital investments.

The BOR has filed a petition/application for a new withdrawal for a 100-year term. Publication of this notice segregates the proposed withdrawal of 953.06 acres of public lands subject to valid existing rights, from settlement, sale, location, or entry under all of the general land laws, including the mining laws, and 309.56 acres of national forest system lands from location and entry under the mining laws, for up to 2 years.

Public Lands

New Mexico Principal Meridian, Colorado

T. 38 N., R. 15 W.,

Sec. 18, lots 2 and 3, and NE¼SW¼;

Sec. 19, SE¼NW¼ and NE¼SW¼.

T. 38 N., R. 16 W.,

Sec. 2, lots 1 thru 4;

Sec. 11, S½NE¼ and S½NW¼;

Sec. 12, SW¼NE¼, S½NW¼, N½SW¼, SW¼SW¼, N½SE¼, and SE¼SE¼;

Sec. 13, W½NW¼.

The areas aggregate 953.06 acres in Montezuma County.

San Juan National Forest

New Mexico Principal Meridian, Colorado

T. 38 N., R. 15 W.,

Sec. 3, lot 2, E½NE¼SE¼, SW¼NE¼SE¼, and SW¼SE¼;

Sec. 7, S½NE¼ and E½SE¼;

Sec. 28, NW¼SW¼.

The areas aggregate 309.56 acres in Montezuma County.

The total area contains 1,262.62 acres.

The use of a right-of-way, interagency, or cooperative agreement would not constrain nondiscretionary uses.

There are no suitable alternative sites in the area for a reservoir and dam.

No additional water rights are needed to fulfill the purpose of this withdrawal.

Comments, including name and street address of respondents, will be available for public review at the BLM Colorado State Office, 2850 Youngfield Street, Lakewood, CO 80215, during regular business hours 8:00 a.m. to 4:30 p.m., Monday through Friday, except holidays.

Before including your address, phone number, email address, or other personal identifying information in your comment, you should be aware that your entire comment—including your personally identifying information—may be made publicly available at any time. While you may ask the BLM in your comment to withhold your personal identifying information from public review, we cannot guarantee that we will be able to do so.

Notice is hereby given that an opportunity for a public meeting is afforded in connection with the proposed withdrawal. All interested persons who desire a public meeting on this withdrawal must submit a written request to the State Director, BLM Colorado State Office at the address in the ADDRESSES section earlier. If the authorized officer determines that a public meeting will be held, a notice of the date, time, and place will be published in the Federal Register and local newspapers having general circulation in the vicinity of the land and also posted on the BLM website at: www.blm.gov at least 30 days before the scheduled date of the meeting.

For a period until August 2, 2023, subject to valid existing rights, the 953.06 acres of public lands are segregated from settlement, sale, location, or entry, under all of the general land laws, including the mining laws, and 309.56 acres of National Forest System lands are segregated from location and entry under the mining laws, unless the application is denied or canceled, or the withdrawal is approved prior to that date. The temporary land uses which may be permitted during this segregative period include licenses, permits, rights-of-way, and disposal of mineral and vegetative resources other than under the mining laws.

(Authority: 43 CFR 2310.3-1)

Jamie Connell,
State Director.

[FR Doc. 2021-16386 Filed 7-30-21; 8:45 am]

BILLING CODE 4310-JB-P